ENVIRONMENTAL PROTECTION AGENCY

[OECA-2004-0023; FRL-7655-3]

Agency Information Collection Activities: Proposed Collection; Comment Request; Environmental Council of the States (ECOS) Survey of State Performance Measures, EPA ICR Number 2143.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before June 29, 2004.

ADDRESSES: Submit your comments, referencing docket ID number OECA-2004-0023, to EPA online using EDOCKET (our preferred method), by email to intranet.epa.gov/edocket, or by mail to: EPA Docket Center, Environmental Protection Agency, 1200 Pennsylvania Ave., NW., Washington, DC 20460.

FOR FURTHER INFORMATION CONTACT: Lynn Vendinello, Office of Compliance, Mail Code 2222a, Environmental Protection Agency, 1200 Pennsylvania Ave., NW., Washington, DC 20460; telephone number: (202) 564-7066; fax number: (202) 564-0031; email address: vendinello.lynn@epa.gov.

SUPPLEMENTARY INFORMATION: EPA has established a public docket for this ICR under Docket ID number OECA-2004-0023, which is available for public viewing at the OECA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OECA Docket is (202) 566-1514. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: Entities potentially affected by this action are the state environmental commissioners.

Title: ECOS Survey of State Performance Measures.

Abstract: The survey in question asks state environmental commissioners to report on their contribution to enforcement and compliance assistance for 2000-2003. They are asked to refer to their own records and account for the number of inspections, reviews, complaints etc. that have taken shape during this time. They are also asked to give the number and type of mechanisms and fines applied and collected. It also questions if and how the states feel they have been effective using these methods. There is a section of the survey asking the states to rate how important and useful they feel the statistics and reports required by the EPA are in conveying the current conditions within their borders. Importantly, the survey also aims to capture information about state activity in outcome measurement. In particular, it asks states about their experiences with compliance rate measurement and with calculating the environmental benefits of enforcement actions and compliance assistance. The survey is designed to capture compliance rates and activities directly from state records. This will provide a means in which the states' efforts to promote the EPA's philosophy on enforcement and compliance can be more readily monitored. The responses to this collection of information are voluntary. The information obtained by this survey is completely confidential unless a state wants their information to be publicized. An agency may not conduct or sponsor, and a person is not required to respond to, a collection of information unless it displays a currently valid OMB control number. The OMB control numbers for EPA's regulations in 40 CFR are listed in 40 CFR part 9. This survey will provide information that will assist in the creation of a report. This will show if there is a discrepancy in the data found in the states databases and EPA's database. In addition to providing the EPA with the information it needs to more successfully function in the way it was designed to, this survey is also keeping the states burden at a minimum. This is being done by the use of electronic responses.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The survey will be distributed to one representative from each state. An estimated 49 voluntary responses will be retrieved. EPA estimates that participating entities may need to spend between one to two hours completing this survey. A total of 98 hours may be spent to provide EPA and ECOS with this data. This burden hour estimate translates to a cost of $75/39per entity that voluntarily completes the survey resulting in the total of $3,694.21 (based on labor rates obtained from the United States of Commerce, Bureau of Labor Statistics, December 2003, State and local government, by occupational and industry group). There should be no additional capital or other non-labor costs.

Affected Entities: 50.

Estimated Number of Respondents: 49.

Frequency of Response: one time.

Estimated Total Hour Burden: 98 hours.

Estimated Total Capital and Other Non-labor Costs: $0.

Estimated Total Labor Costs: $3,694.21.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 31, 2004.
Michael M. Stahl,
Office Director, Office of Compliance, Office of Enforcement and Compliance Assurance.

[FR Doc. 04-9871 Filed 4-29-04; 8:45 am]

BILLING CODE 6560-50-P